FEDERAL COMMUNICATIONS COMMISSION

Sunshine Act Meeting; Deletion of Agenda Item From February 10, 2005, Open Meeting

February 9, 2005.

The following item has been deleted from the list of Agenda items scheduled for consideration at the February 10, 2005, Open Meeting and previously listed in the Commission's Notice of February 3, 2005.

2 | Media | Title: WRGT Licensee, LLC For Assignment of License of WRGT-TV, Dayton, Ohio, to WRGT Licensee, LLC (New Nevada, LLC); WVAH Licensee, LLC For Assignment of License of WVAH-TV, Charleston, West Virginia, to WVAH Licensee, LLC (New Nevada, LLC); WTAT Licensee, LLC For Assignment of License of WTAT-TV, Charleston, South Carolina, to WTAT Licensee, LLC (New Nevada, LLC); Cunningham Broadcasting Corp. (Transferor) and Sinclair Acquisition XIII, Inc. (Transferee) For consent to transfer of control of television station WTTE-TV, Columbus, Ohio; Cunningham Broadcasting Corp. (Transferor) and Sinclair Acquisition XIII, Inc. (Transferee) For consent to transfer of control of television station WNUV-TV, Baltimore, Maryland.
|  | Summary: The Commission will consider a Memorandum Opinion and Order concerning an Application for Review filed by various licensee subsidiaries of Sinclair Broadcast Group, Inc. seeking review of a decision by the Media Bureau dismissing applications through which Sinclair sought to acquire television stations from the licensee subsidiaries of Cunningham Broadcasting Corporation.

Federal Communications Commission.
Marlene H. Dortch,
Secretary.

[FR Doc. 05-3064 Filed 2-14-05; 11:51 am]

BILLING CODE 6712-01-P